DEPARTMENT OF AGRICULTURE

Animal and Plant Health Inspection Service

7 CFR Part 301

[Docket No. APHIS-2011-0029]

European Larch Canker; Expansion of Regulated Areas

AGENCY: Animal and Plant Health Inspection Service, USDA.

ACTION: Affirmation of interim rule as final rule.

SUMMARY: We are adopting as a final rule, without change, an interim rule that amended the domestic quarantine regulations by expanding the regulated area for European larch canker to include additional areas in Maine and by correcting some misidentifications of previously listed regulated areas. The interim rule was necessary to prevent human-assisted transmission of European larch canker from infested areas to noninfested areas.

DATES: Effective on December 28, 2011, we are adopting as a final rule the interim rule published at 76 FR 52543-52544 on August 23, 2011.

FOR FURTHER INFORMATION CONTACT: Mr. Paul Chaloux, National Program Manager, Emergency and Domestic Programs, PPQ, APHIS, 4700 River Road, Unit 26, Riverdale, MD 20737; (301) 734-0917.

SUPPLEMENTARY INFORMATION:

Background

European larch canker (ELC), Lachnellula willkommi (Dasycypha), is a serious plant disease caused by a fungus that can kill mature and immature species of the genus Larix (larch) and Pseudolarix (Golden larch).

Under the regulations in “Subpart-European Larch Canker” (7 CFR 301.91 through 301.91-9, referred to below as the regulations), we restrict the interstate movement of certain regulated articles from regulated areas to prevent the spread of ELC. These regulations, which were established in May 1984, list parts of several counties in Maine as regulated areas.

In an interim rule ¹ effective and published in the Federal Register on August 23, 2011 (76 FR 52543-52544, Docket No. APHIS-2011-0029), we amended the regulations to expand the regulated area for ELC to include additional areas in Maine. We also corrected some misidentifications of previously listed regulated areas.

¹ To view the interim rule, go to http://www.regulations.gov/#!docketDetail;D=APHIS-2011-0029.

Comments on the interim rule were required to be received on or before October 24, 2011.

We did not receive any comments. Therefore, for the reasons given in the interim rule, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 76 FR 52543-52544 on August 23, 2011.

Done in Washington, DC, this 19th day of December 2011.
Kevin Shea,
Acting Administrator, Animal and Plant Health Inspection Service.

[FR Doc. 2011-33204 Filed 12-27-11; 8:45 am]

BILLING CODE 3410-34-P